DEPARTMENT OF COMMERCE

National Oceanic and Atmospheric Administration

[I.D. 060704C]

Proposed Information Collection; Comment Request; Assessing Stakeholder Attitudes and Concerns Toward Ecosystem Management

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 13, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Rita Curtis, Department of Commerce, NOAA, National Marine Fisheries Service, 1315 East West Highway, #12752, Silver Spring, MD 20910 (301-713-2328).

SUPPLEMENTARY INFORMATION:

I. Abstract

The objective of the survey will be to elicit the range of concerns regarding the use of ecosystem-based management measures, the types of goals and objectives that should be pursued (e.g., in developing guidelines), and overall attitudes and concerns regarding the use of ecosystem approaches in fisheries management. Given the increasing emphasis on ecosystem issues in the Councils and in impending legislation, the questionnaire survey is well timed to establish a baseline for outreach and planning and as an approach that will potentially have applicability nation-wide.

II. Method of Collection

The survey will be conducted as a mail survey.

III. Data

OMB Number: None.

Form Number: None.

Type of Review: Regular submission.

Affected Public: Business or other for-profit organizations; not-for-profit institutions; Federal Government; state, local or tribal government.

Estimated Number of Respondents: 10,000.

Estimated Time Per Response: 20 minutes.

Estimated Total Annual Burden Hours: 3,333.

Estimated Total Annual Cost to Public: $3,700.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 4, 2004.
Gwellnar Banks,
Management Analyst, Office of the Chief Information Officer.

[FR Doc. 04-13207 Filed 6-10-04; 8:45 am]

BILLING CODE 3510-22-S